DEPARTMENT OF THE INTERIOR

National Park Service

[NPS-WASO-NAGPRA-NPS0039478; PPWOCRADN0-PCU00RP14.R50000]

Notice of Intended Disposition: U.S. Department of the Interior, National Park Service, Katmai National Park and Preserve, King Salmon, AK

AGENCY: National Park Service, Interior.

ACTION: Notice.

SUMMARY: In accordance with the Native American Graves Protection and Repatriation Act (NAGPRA), the U.S. Department of the Interior, National Park Service, Katmai National Park and Preserve (KATM) intends to carry out the disposition of human remains and associated funerary objects removed from Federal or Tribal lands to the lineal descendants, Indian Tribe, or Native Hawaiian organization with priority for disposition in this notice.

DATES: Disposition of the human remains and associated funerary objects in this notice may occur on or after April 17, 2025. If no claim for disposition is received by March 18, 2026, the human remains and associated funerary objects in this notice will become unclaimed human remains and associated funerary objects.

ADDRESSES: Mark Sturm, Superintendent, Katmai National Park and Preserve, P.O. Box 7, King Salmon, AK 99613, telephone (907) 246-2120, email mark_sturm@nps.gov.

SUPPLEMENTARY INFORMATION: This notice is published as part of the National Park Service's administrative responsibilities under NAGPRA. The determinations in this notice are the sole responsibility of the Superintendent, KATM, and additional information on the human remains and associated funerary objects in this notice, including the results of consultation, can be found in the related records.

Abstract of Information Available

Based on the information available, human remains representing at least one individual has been reasonably identified from the Cutbank Site, state site XMK-016. The eight associated funerary objects are a stone lamp, a biface fragment, wooden plank fragments, birch bark, soil, and stone flakes.

In 1999, fragments of a human cranium and stone lamp were found naturally eroded from the Cutbank site, near Brooks Camp (Lake and Peninsula Borough, Alaska) and were collected. In 2000, more human remains, and a stone tool eroded from the same burial in the cutbank and were collected. In 2001, the remaining human remains at the stie were excavated by the NPS. Between 2002-2003, the site was excavated by the NPS. While no other burials were encountered, an additional human molar was identified and collected. All the human remains and funerary objects are stored in the Alaska Regional Curatorial Center (ARCC) at the NPS Regional Office in Anchorage, AK.

Determinations

KATM has determined that:

• The human remains described in this notice represent the physical remains of at least one individual of Native American ancestry.

• The eight objects described in this notice are reasonably believed to have been placed intentionally with or near individual human remains at the time of death or later as a part of the death rite or ceremony.

• The Chignik Bay Tribal Council; Chignik Lake Village; Ivanof Bay Tribe; King Salmon Tribe; Naknek Native Village; Native Village of Chignik Lagoon; Native Village of Perryville; and South Naknek Village have priority for disposition of the human remains or cultural items in this notice.

Claims for Disposition

Written claims for disposition of the human remains and associated funerary objects in this notice must be sent to the appropriate official identified in this notice under ADDRESSES. If no claim for disposition is received by March 18, 2026, the human remains and associated funerary objects in this notice will become unclaimed human remains and associated funerary objects. Claims for disposition may be submitted by:

1. Any lineal descendant, Indian Tribe, or Native Hawaiian organization identified in this notice.

2. Any lineal descendant, Indian Tribe, or Native Hawaiian organization not identified in this notice who shows, by a preponderance of the evidence, that they have priority for disposition.

Disposition of the human remains and associated funerary objects in this notice may occur on or after April 17, 2025. If competing claims for disposition are received, KATM must determine the most appropriate claimant prior to disposition. Requests for joint disposition of the human remains and associated funerary objects are considered a single request and not competing requests. KATM is responsible for sending a copy of this notice to the lineal descendants, Indian Tribes, and Native Hawaiian organizations identified in this notice and to any other consulting parties.

Authority: Native American Graves Protection and Repatriation Act, 25 U.S.C. 3002, and the implementing regulations, 43 CFR 10.7.

Dated: February 4, 2025.
Melanie O'Brien,
Manager, National NAGPRA Program.

[FR Doc. 2025-04367 Filed 3-17-25; 8:45 am]

BILLING CODE 4312-52-P